DEPARTMENT OF THE INTERIOR

Fish and Wildlife Service

50 CFR Part 17

RIN 1018-AF92; RIN 1018-AF95

Endangered and Threatened Wildlife and Plants; Extension of Comment Periods on Proposed Critical Habitat for the Spectacled Eider and Steller's Eider

AGENCY: Fish and Wildlife Service, Interior.

ACTION: Proposed rule; notice of extension of comment period.

SUMMARY: The Fish and Wildlife Service (Service) provides notice that the comment periods on the proposed rules designating critical habitat for spectacled eider (Somateria fischeri) and Steller's eider (Polysticta stelleri) are extended. The spectacled eider and Steller's eider are found in marine waters and coastal wetlands in Alaska. All interested parties are invited to submit comments on these proposals.

DATES: The comment period for the proposed rule concerning spectacled eiders, which originally closed on May 8, 2000, now closes on June 30, 2000. The comment period for the proposed rule concerning Steller's eiders, which originally closed on May 12, 2000, now closes on June 30, 2000.

ADDRESSES: Written data or comments on the spectacled eider should be submitted to the Field Supervisor, Ecological Services Field Office, Anchorage, U.S. Fish and Wildlife Service, 605 W. 4th Ave. Rm G-62, Anchorage, AK 99501; Fax: 907/271-2786. Written data or comments on the Steller's eider should be submitted to the Field Supervisor, Northern Alaska Ecological Services, 101 12th Ave., Rm 110, Fairbanks, AK 99701. All comments received, including names and addresses, will become part of the official administrative record and may be made available to the public.

The deadline for requesting public hearings for the spectacled eider critical habitat proposal was March 24, 2000. The deadline for requesting public hearings for the Steller's eider critical habitat proposal is April 27, 2000. In order to be considered valid, requests must have been, or must be, submitted in writing and received at the offices indicated above before the public hearing request deadline date.

FOR FURTHER INFORMATION CONTACT: For the proposed rule concerning spectacled eiders, contact Ann G. Rappoport, Field Supervisor, Ecological Services Field Office, Anchorage, U.S. Fish and Wildlife Service, 605 W. 4th Ave. Rm G-62, Anchorage, AK 99501; phone: 907/271-2787 or toll-free 800/272-4174; Fax: 907/271-2786. For the proposed rule concerning Steller's eiders, contact Ted Swem, Endangered Species Branch, at Northern Alaska Ecological Services, 101 12th Ave., Rm 110, Fairbanks, AK, 99701; phone: 907/456-0203; fax: 907/456-0208.

SUPPLEMENTARY INFORMATION:

Background

The spectacled eider is a large seaduck found in marine waters and coastal areas from the Nushagak Peninsula of southwestern Alaska north to Barrow and east nearly to the Canadian Border. The species may be threatened by habitat degradation, lead poisoning, increased predation rates, and hunting and other human disturbance. The Steller's eider is a seaduck found in coastal and marine waters from the eastern Aleutian Islands around the western and northern coasts of Alaska to the Canada border. The Alaska-breeding population of this species is thought to have decreased significantly, but the causes of the suspected decline are unknown. On February 8, 2000, the Service published a proposed rule (65 FR 6114) to designate critical habitat for the spectacled eider, and on March 13, 2000, the Service published a proposed rule (65 FR 13262) to designate critical habitat for the Steller's eider.

The comment period for the proposed rule designating critical habitat for spectacled eiders originally closed on May 8, 2000. The comment period for the proposed rule designating critical habitat for Steller's eiders originally closed on May 12, 2000. Following publication of the proposed rules several parties expressed concern that the original comment periods did not allow sufficient time for review and comment by individuals and communities that may be affected by the proposed designation of critical habitat. The parties specifically indicated that the original comment periods may be inadequate for communities in remote areas and communities that are populated predominantly by Alaska Natives, for many of whom English is a second language. Additionally, we anticipate that the comment periods for the economic analyses associated with these proposed critical habitat designations will be open during June 2000. We wish to solicit comments on the proposed rules and their respective economic analyses simultaneously. In order to accommodate these considerations, the Service is extending the comment period for both proposed rules until June 30, 2000. Written comments may be submitted to the appropriate Service office as specified in the ADDRESSES section.

Author

The primary author of this notice is Susan Detwiler, U.S. Fish and Wildlife Service, Division of Endangered Species, 1011 E. Tudor Rd., Anchorage, AK 99503.

Authority

The authority of this action is the Endangered Species Act of 1973 (16 U.S.C. 1531 et seq.).

Dated: April 12, 2000.
David B. Allen,
Regional Director, Region 7, Fish and Wildlife Service.

[FR Doc. 00-9812 Filed 4-18-00; 8:45 am]

BILLING CODE 4310-55-P